ENVIRONMENTAL PROTECTION AGENCY

40 CFR Part 52

[EPA-R05-OAR-2020-0544, EPA-R05-OAR-2021-0144; FRL-90003-02-R5]

Air Plan Approval; Illinois; National Ambient Air Quality Standards Updates; Reference and Equivalent Methods Updates

AGENCY: Environmental Protection Agency (EPA).

ACTION: Final rule.

SUMMARY: The Environmental Protection Agency (EPA) is approving several revisions to the Illinois State Implementation Plan (SIP). First, EPA is approving amendments to the Illinois SIP that incorporate by reference EPA's current national ambient air quality standard for ozone, particulate matter, lead, nitrogen dioxide, and sulfur oxides. Second, EPA is approving revisions to the Illinois SIP that incorporate by reference current Federal Reference Methods for monitoring carbon monoxide, ozone, particulate matter, lead, nitrogen dioxide, and sulfur oxides. Third, EPA is approving an amendment to the Illinois SIP that reflects a recent update to EPA's List of Designated Reference and Equivalent Methods. Lastly, EPA is approving minor revisions and corrections to the Illinois SIP.

DATES: This final rule is effective on November 3, 2021.

ADDRESSES: EPA has established a docket for this action under Docket ID No. EPA-R05-OAR-2020-0544 and EPA-R05-OAR-2021-0144. All documents in the docket are listed on the www.regulations.gov website. Although listed in the index, some information is not publicly available, i.e., Confidential Business Information (CBI) or other information whose disclosure is restricted by statute. Certain other material, such as copyrighted material, is not placed on the internet and will be publicly available only in hard copy form. Publicly available docket materials are available either through www.regulations.gov or at the Environmental Protection Agency, Region 5, Air and Radiation Division, 77 West Jackson Boulevard, Chicago, Illinois 60604. This facility is open from 8:30 a.m. to 4:30 p.m., Monday through Friday, excluding Federal holidays and facility closures due to COVID-19. We recommend that you telephone Anthony Maietta, Environmental Protection Specialist, at (312) 353-8777 before visiting the Region 5 office.

FOR FURTHER INFORMATION CONTACT: Anthony Maietta, Environmental Protection Specialist, Control Strategies Section, Air Programs Branch (AR-18J), Environmental Protection Agency, Region 5, 77 West Jackson Boulevard, Chicago, Illinois 60604, (312) 353-8777, maietta.anthony@epa.gov.

SUPPLEMENTARY INFORMATION: Throughout this document whenever “we,” “us,” or “our” is used, we mean EPA.

I. Background Information.

On June 21, 2021, EPA proposed to approve revisions to several sections of Title 35 of the Illinois Administrative Code, Part 243 (35 IAC 243), Subparts A (“General Provisions”) and B (“Standards and Measurement Methods”) requested by the Illinois Environmental Protection Agency on October 20, 2020 and February 16, 2021. See 86 FR 32366. An explanation of the applicable Clean Air Act (CAA) requirements, a detailed analysis of the revisions, and EPA's reasons for proposing approval were provided in the notice of proposed rulemaking and will not be restated here. The public comment period for this proposed rulemaking ended on July 21, 2021. EPA did not receive any comments on the proposal. Therefore, we are finalizing our action as proposed.

II. What action is EPA taking?

EPA is approving the revisions to 35 IAC 243 as outlined in Illinois' October 20, 2020 submittal, except for 35 IAC 243.108. EPA is also approving the revisions to 35 IAC 243 as outlined in Illinois' February 16, 2021 submittal.

III. Incorporation by Reference.

In this rule, EPA is finalizing regulatory text that includes incorporation by reference. In accordance with requirements of 1 CFR 51.5, EPA is finalizing the incorporation by reference of the Illinois Regulations described in the amendments to 40 CFR part 52 set forth below. EPA has made, and will continue to make, these documents generally available through www.regulations.gov, and at the EPA Region 5 Office (please contact the person identified in the FOR FURTHER INFORMATION CONTACT section of this preamble for more information). Therefore, these materials have been approved by EPA for inclusion in the SIP, have been incorporated by reference by EPA into that plan, are fully federally enforceable under sections 110 and 113 of the CAA as of the effective date of the final rulemaking of EPA's approval, and will be incorporated by reference in the next update to the SIP compilation.¹

¹ 62 FR 27968 (May 22, 1997).

IV. Statutory and Executive Order Reviews.

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Public Law 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by December 3, 2021. Filing a petition for reconsideration by the Administrator of this final rule does not affect the finality of this action for the purposes of judicial review nor does it extend the time within which a petition for judicial review may be filed, and shall not postpone the effectiveness of such rule or action. This action may not be challenged later in proceedings to enforce its requirements. (See CAA section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: September 22, 2021.
Cheryl Newton,
Acting Regional Administrator, Region 5.

For the reasons stated in the preamble, EPA amends title 40 CFR part 52 as follows:

PART 52—APPROVAL AND PROMULGATION OF IMPLEMENTATION PLANS

1. The authority citation for part 52 continues to read as follows:

Authority: 42 U.S.C. 7401 et seq.

2. In § 52.720, the table in paragraph (c) is amended under the heading “Subchapter I: Air Quality Standards and Episodes” “Part 243: Air Quality Standards” by:

A. Under the heading “Subpart A: General Provisions”:

1. Revising the entries for 243.101, 243.105, 243.107, and 243.108;

2. Adding an entry for 243.102; and

B. Under the heading “Subpart B: Standards and Measurement Methods” adding entries for 243.120, 243.122, 243.123, 243.124, and 243.126.

§ 52.720 Identification of plan.

* * * * *

(c) * * *

EPA-Approved Illinois Regulations and Statutes
Illinois citation | Title/subject | State effective date | EPA approval date | Comments
* * * * * * *
Subchapter I: Air Quality Standards and Episodes
Part 243: Air Quality Standards
Subpart A: General Provisions
243.101 | Definitions | 12/17/2020 | 10/4/2021, [INSERT FEDERAL REGISTER CITATION] |
243.102 | Scope | 12/17/2020 | 10/4/2021, [INSERT FEDERAL REGISTER CITATION] |
* * * * * * *
243.105 | Air Quality Monitoring Data Influenced by Exceptional Events | 12/17/2020 | 10/4/2021, [INSERT FEDERAL REGISTER CITATION] |
* * * * * * *
243.107 | Reference Conditions | 12/17/2020 | 10/4/2021, [INSERT FEDERAL REGISTER CITATION] |
243.108 | Incorporation by Reference | 12/17/2020 | 10/4/2021, [INSERT FEDERAL REGISTER CITATION] |
Subpart B: Standards and Measurement Methods
243.120 | PM10 and PM2.5 | 8/18/2020 | 10/4/2021, [INSERT FEDERAL REGISTER CITATION] |
243.122 | Sulfur Oxides (Sulfur Dioxide) | 8/18/2020 | 10/4/2021, [INSERT FEDERAL REGISTER CITATION] |
243.123 | Carbon Monoxide | 8/18/2020 | 10/4/2021, [INSERT FEDERAL REGISTER CITATION] |
243.124 | Nitrogen Oxides (Nitrogen Dioxide as Indicator) | 8/18/2020 | 10/4/2021, [INSERT FEDERAL REGISTER CITATION] |
* * * * * * *
243.126 | Lead | 8/18/2020 | 10/4/2021, [INSERT FEDERAL REGISTER CITATION] |
* * * * * * *

* * * * *

[FR Doc. 2021-21188 Filed 10-1-21; 8:45 am]

BILLING CODE 6560-50-P